DEPARTMENT OF TRANSPORTATION

Federal Aviation Administration

14 CFR Part 39

[Docket No. FAA-2005-21691; Directorate Identifier 2005-NE-13-AD; Amendment 39-14701; AD 2006-16-01]

RIN 2120-AA64

Airworthiness Directives; Hamilton Sundstrand Model 14RF-19 Propellers

AGENCY: Federal Aviation Administration (FAA), Department of Transportation (DOT).

ACTION: Final rule; request for comments.

SUMMARY: The FAA is superseding an existing airworthiness directive (AD) for Hamilton Sundstrand model 14RF-19 propellers. That AD currently requires replacing certain actuator yokes with improved actuator yokes. This AD requires the same actions. This AD results from the discovery of a part number (P/N) error in the applicability paragraph of AD 2006-12-19. We are issuing this AD to prevent actuator yoke arms breaking during flight, which could cause high propeller vibration and contribute to reduced controllability of the airplane.

DATES: Effective August 30, 2006. The Director of the Federal Register previously approved the incorporation by reference of certain publications listed in the regulations as of July 18, 2006 (71 FR 34003; June 13, 2006).

We must receive any comments on this AD by September 29, 2006.

ADDRESSES: Use one of the following addresses to comment on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590-0001.

• Fax: (202) 493-2251.

• Hand Delivery: Room PL-401 on the plaza level of the Nassif Building, 400 Seventh Street, SW., Washington, DC, between 9 a.m. and 5 p.m., Monday through Friday, except Federal holidays.

Contact Hamilton Sundstrand, A United Technologies Company, Publication Manager, Mail Stop 1A-3-Z63, One Hamilton Road, Windsor Locks, CT 06096; fax 1-860-654-5107 for the service information identified in this AD.

FOR FURTHER INFORMATION CONTACT: Frank Walsh, Aerospace Engineer, Boston Aircraft Certification Office, FAA, Engine and Propeller Directorate, 12 New England Executive Park, Burlington, MA 01803; telephone (781) 238-7158; fax (781) 238-7170.

SUPPLEMENTARY INFORMATION: On June 6, 2006, the FAA issued AD 2006-12-19, Amendment 39-14645 (71 FR 34003, June 13, 2006). That AD requires replacing certain actuator yokes with improved actuator yokes on Hamilton Sundstrand model 14RF-19 propellers. That AD resulted from certain propeller system actuator yoke arms breaking during flight. That condition, if not corrected, could result in actuator yoke arms breaking during flight, which could cause high propeller vibration and contribute to reduced controllability of the airplane.

Actions Since AD 2006-12-19 Was Issued

Since that AD was issued, we discovered a P/N error in applicability paragraph (c). Actuator assemblies P/N 790119-6 should be P/N 790199-6. AD 2006-12-19 technically cannot be complied with having an incorrect P/N. This AD supersedure corrects that P/N.

Relevant Service Information

We have reviewed and approved the technical contents of Hamilton Sundstrand Service Bulletin 14RF-19-61-113, Revision 1, dated September 2, 2003, that describes procedures for installing a new propeller system actuator yoke arm, P/N 810436-3.

FAA's Determination and Requirements of This AD

The unsafe condition described previously is likely to exist or develop on other Hamilton Sundstrand model 14RF-19 propellers of the same type design. We are issuing this AD to prevent actuator yoke arms breaking during flight, which could cause high propeller vibration and contribute to reduced controllability of the airplane. This AD requires replacing the actuator yoke arm, P/N 810436-2, on model 14RF-19 propellers with an improved actuator yoke arm, P/N 810436-3. You must use the service information described previously to perform the actions required by this AD.

FAA's Determination of the Effective Date

Since an unsafe condition exists that requires the immediate adoption of this AD, we have found that notice and opportunity for public comment before issuing this AD are impracticable, and that good cause exists for making this amendment effective in less than 30 days.

Comments Invited

This AD is a final rule that involves requirements affecting flight safety and was not preceded by notice and an opportunity for public comment; however, we invite you to send us any written relevant data, views, or arguments regarding this AD. Send your comments to an address listed under ADDRESSES. Include “AD Docket No. FAA-2005-21691; Directorate Identifier 2005-NE-13-AD” in the subject line of your comments. We specifically invite comments on the overall regulatory, economic, environmental, and energy aspects of the rule that might suggest a need to modify it.

We will post all comments we receive, without change, to http://dms.dot.gov, including any personal information you provide. We will also post a report summarizing each substantive verbal contact with FAA personnel concerning this AD. Using the search function of the DMS Web site, anyone can find and read the comments in any of our dockets, including the name of the individual who sent the comment (or signed the comment on behalf of an association, business, labor union, etc.). You may review the DOT's complete Privacy Act Statement in the Federal Register published on April 11, 2000 (65 FR 19477-78) or you may visit http://dms.dot.gov.

Examining the AD Docket

You may examine the docket that contains the AD, any comments received, and any final disposition in person at the Docket Management Facility Docket Office between 9 a.m. and 5 p.m., Monday through Friday, except Federal holidays. The Docket Office (telephone (800) 647-5227) is located on the plaza level of the Department of Transportation Nassif Building at the street address stated in ADDRESSES. Comments will be available in the AD docket shortly after the DMS receives them.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES.

List of Subjects in 14 CFR Part 39

Air transportation, Aircraft, Aviation safety, Incorporation by reference, Safety.

Adoption of the Amendment

Under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Amendment 39-14645 (71 FR 34003, June 13, 2006), and by adding a new airworthiness directive, Amendment 39-14701, to read as follows:

2006-16-01 Hamilton Sundstrand: Amendment 39-14701. Docket No. FAA-2005-21691; Directorate Identifier 2005-NE-13-AD.

Effective Date

(a) This airworthiness directive (AD) becomes effective August 15, 2006.

Affected ADs

(b) This AD supersedes AD 2006-12-19.

Applicability

(c) This AD applies to Hamilton Sundstrand Model 14RF-19 propellers with propeller system actuator yoke arms, part number (P/N) 810436-2, which might be installed in actuator assemblies P/N 790199-6. These propellers are installed on, but not limited to, SAAB 340 airplanes.

Unsafe Condition

(d) This AD results from the discovery of a part number (P/N) error in the applicability paragraph of AD 2006-12-19. We are issuing this AD to prevent actuator yoke arms breaking during flight, which could cause high propeller vibration and contribute to reduced controllability of the airplane.

Compliance

(e) You are responsible for having the actions required by this AD performed within 60 days after the effective date of this AD, unless the actions have already been done.

Install Improved Actuator Yoke Arms

(f) Using the Accomplishment Instructions of Hamilton Sundstrand Service Bulletin 14RF-19-61-113, Revision 1, dated September 2, 2003, replace all actuator yoke arms, P/N 810436-2, with improved actuator yoke arms, P/N 810436-3.

(g) Mark newly installed actuators using the Accomplishment Instructions of Hamilton Sundstrand Service Bulletin 14RF-19-61-113, Revision 1, dated September 2, 2003.

(h) After the effective date of this AD, do not install any actuator yoke arms, P/N 810436-2, into any propeller assembly.

Alternative Methods of Compliance

(i) The Manager, Boston Aircraft Certification Office, has the authority to approve alternative methods of compliance for this AD if requested using the procedures found in 14 CFR 39.19.

Related Information

(j) None.

Material Incorporated by Reference

(k) You must use Hamilton Sundstrand Service Bulletin 14RF-19-61-113, Revision 1, dated September 2, 2003, to perform the replacements and marking required by this AD. The Director of the Federal Register previously approved the incorporation by reference of this service bulletin as of July 18, 2006 (71 FR 34003; June 13, 2006) in accordance with 5 U.S.C. 552(a) and 1 CFR part 51. Contact Hamilton Sundstrand, A United Technologies Company, Publication Manager, Mail Stop 1A-3-Z63, One Hamilton Road, Windsor Locks, CT 06096; fax 1-860-654-5107, for a copy of this service information. You may review copies at the FAA, New England Region, Office of the Regional Counsel, 12 New England Executive Park, Burlington, MA; or at the National Archives and Records Administration (NARA). For information on the availability of this material at NARA, call 202-741-6030, or go to: http://www.archives.gov/federal-register/cfr/ibr-locations.html.

Issued in Burlington, Massachusetts, on July 24, 2006.
Francis A. Favara,
Manager, Engine and Propeller Directorate, Aircraft Certification Service.

[FR Doc. E6-12109 Filed 7-28-06; 8:45 am]

BILLING CODE 4910-13-P